DEPARTMENT OF TRANSPORTATION

Federal Aviation Administration

[Policy Statement No. ANM-03-115-31]

Conducting Component Level Tests To Demonstrate Compliance

AGENCY: Federal Aviation Administration (FAA), DOT.

ACTION: Notice of final policy.

SUMMARY: The Federal Aviation Administration (FAA) announces the availability of final policy on conducting component level tests in order demonstrate compliance with the requirements of §§ 25.785(b) and (d).

DATES: The final policy was issued by the Transport Airplane Directorate on May 9, 2005.

ADDRESSES: Address your comments to the individual identified under FOR FURTHER INFORMATION CONTACT.

FOR FURTHER INFORMATION CONTACT: Jeff Gardlin, Federal Aviation Administration, Transport Airplane Directorate, Transport Standards Staff, Airframe and Cabin Safety Branch, ANM-115, 1601 Lind Avenue SW., Renton, WA 98055-4056; telephone (425) 227-2136; fax (425) 227-1320; e-mail: jeff.gardlin@faa.gov.

SUPPLEMENTARY INFORMATION: A notice of proposed policy was published in the Federal Register on July 22, 2003 (68 FR 43418). A notice reopening the comment period for an additional amount of time was published in the Federal Register on September 15, 2003 (68 FR 54042). Three (3) commenters responded to these requests for comments.

Background

The final policy provides FAA certification policy on conducting component level tests in order to demonstrate compliance with the requirements of §§ 25.785(b) and (d).

Injurious item located within the headstrike zone can be assessed for occupant injury potential. These test methods are the product of an Aviation Rulemaking Advisory Committee recommendation and are harmonized with the Joint Aviation Authorities (JAA) and Transport Canada.

The final policy as well as the disposition of comments received is available on the Internet at the following address: http://www.airweb.faa.gov/rgl. If you do not have access to the Internet, you can obtain a copy of the policy by contacting the person listed under FOR FURTHER INFORMATION CONTACT.

Issued in Renton, Washington, on May 9, 2005.
Ali Bahrami,
Manager, Transport Airplane Directorate, Aircraft Certification Service.

[FR Doc. 05-10134 Filed 5-19-05; 8:45 am]

BILLING CODE 4910-13-M